DEPARTMENT OF ENERGY

Federal Energy Regulatory Commission

Notice of Application Accepted for Filing and Soliciting Motions To Intervene and Protests

September 17, 2003.

Take notice that the following hydroelectric application has been filed with the Commission and is available for public inspection.

a. Type of Application: Original Minor License.

b. Project No.: P-12449-000.

c. Date filed: February 28, 2003.

d. Applicant: Neshkoro Power Associates, LLC.

e. Name of Project: Big Falls Milldam Hydroelectric Project.

f. Location: On the Little Wolf River (north branch), near the Village of Big Falls, in Waupaca County, Wisconsin. The project does not affect any federal lands.

g. Filed Pursuant to: Federal Power Act, 16 U.S.C. 791(a)-825(r).

h. Applicant Contact: Mr. Charles Alsberg, North American Hydro, Inc., P.O. Box 167, Neshkoro, Wisconsin 54960, 920-293-4628 ext. 11.

i. FERC Contact: Timothy Konnert, Timothy.Konnert@ferc.gov (202) 502-6359.

j. Deadline for filing motions to intervene and protests: 60 days from the issuance date of this notice.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “e-Filing” link.

k. This application has been accepted for filing, but is not ready for environmental analysis at this time.

l. Project Description: The existing Big Falls Milldam Hydroelectric Project consists of the following facilities: (1) A 256-foot-long by 18-foot-high dam, topped with a 76-foot-long fixed crest ogee with 6-inch flashboards and one 16-foot-wide Taintor gate; (2) a 23.27-acre reservoir (Big Falls Flowage) with a negligible gross storage capacity at a normal elevation of 901.65 feet Mean Sea Level; (3) a 7-foot-diameter by 175-foot-long penstock leading to; (4) a powerhouse containing one, vertical-shaft Francis turbine-generator with an installed generating capacity of 350 kilowatts (kW), producing a total of 1,513,514 kilowatt-hours (kWh) annually; (5) a 100 foot long, 12,470-volt transmission line; and (6) appurtenant facilities.

m. A copy of the application is available for review at the Commission in the Public Reference Room or may be viewed on the Commission's Web site at http://www.ferc.gov using the “eLibrary “ link. Enter the docket number excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov /esubscribenow.htm to be notified via email of new filings and issuances related to this or other pending projects. For assistance, contact FERC Online Support. To view upcoming FERC events, go to http://www.ferc.gov and click on “View Entire Calendar.”

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary

[FR Doc. 03-24237 Filed 9-24-03; 8:45 am]

BILLING CODE 6717-01-P